DEPARTMENT OF HOUSING AND URBAN DEVELOPMENT

[Docket No. FR-4814-N-10]

Notice of Proposed Information for Public Comments on Housing Opportunities for Persons With AIDS

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: March 1, 2004.

ADDRESSES: Interested persons are invited to submit comments regarding this proposal. Comments should refer to the proposal by name and/or OMB Control Number and should be sent to: Shelia E. Jones, Reports Liaison Officer, Department of Housing and Urban Development, 451 7th Street, SW., Room 7230, Washington, DC 20410.

FOR FURTHER INFORMATION CONTACT: Paula Smith (202) 708-1934 (this is not a toll-free number).

SUPPLEMENTARY INFORMATION: The Department is submitting the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

The HOPWA Program is authorized by the AIDS Housing Opportunity Act (42 U.S.C. 12901) as amended by the Housing and Community Development Act of 1992 (Pub. L. 102-550 approved October 28, 1992). The program is governed by the HOPWA Final Rule, 24 CFR part 574, as amended, and the Consolidated Submissions for Community Planning and Development Programs, Final Rule, 24 CFR part 91, as amended. This paper work submission revises and extends the current collection of information that is used by the Department in conducting an annual competition to award program funds and in reviewing grant performance submitted by grantees in the Annual Progress Report (APR), the Comprehensive Annual Performance and Evaluation Report (CAPER), and through the use of the Department's Information Technology Reporting systems (IDIS). The information collected is essential in order to implement statutory requirements and ensure that funds are used within the public trust for their intended purpose.

The Housing Opportunities for Persons with AIDS (HOPWA) Program provides housing assistance and related supportive services for low-income persons with HIV/AIDS and their families.

Funds may be used over a three year operating period. Grantees report to the Department on program accomplishments in annual progress reports and through information systems where the data is collected and maintained in an office database.

This Notice also lists the following information:

Title of Proposal: Housing Opportunities for Persons With AIDS (HOPWA) Program.

OMB Control Number, if applicable: 2506-0133.

Description of the need for the information and proposed use: The information to be collected is provided in applications for competitively awarded funds and in annual progress reports, and in formula programs through the use of annual CAPER reports and the active use of the Department's Information Technology Reporting Systems for grantees receiving these awards.

Agency form numbers, if applicable: HUD-40110-B and HUD-40110-C.

Members of affected public: States, units of general local government, and non-profit organizations.

Estimation of the total numbers of hours needed to prepare the information collection including number of respondents, frequency of response, and hours of response:

Activity | Number of respondents | Frequency of response | Hours of response
Application | 202 | 1 | 70
Annual Progress Reports/IT Reports | 95 | 1 | 130

The total annual estimated burden hours for these optional activities are 27,490 hours, including 1,000 hours that are estimated for miscellaneous activities such as grant negotiations, signing, amendments, environmental, and relocation activities.

Status of the proposed information collection: Revision of a currently approved collection. Public comments requested by HUD.

Authority: The Paperwork Reduction Act of 1995, 44 U.S.C. Chapter 35, as amended.

FOR FURTHER INFORMATION CONTACT: David Vos, Director, Office of HIV/AIDS Housing, Room 7212, U.S. Department of Housing and Urban Development, 451 Seventh Street, SW., Washington, DC 20410, and telephone number (202) 708-1934 (this is not a toll-free number) and TTY 1-800-877-8339 for copies of the proposed forms and other available documents.

Dated: December 19, 2003.
Roy Bernardi,
Assistant Secretary for Community Planning and Development.

[FR Doc. 03-32030 Filed 12-30-03; 8:45 am]

BILLING CODE 4210-29-M